NUCLEAR REGULATORY COMMISSION

[Docket No. 11005897; NRC-2020-0118]

EnergySolutions Services, Inc.

AGENCY: Nuclear Regulatory Commission.

ACTION: Export license amendment application and renewal; opportunity to provide comments, request a hearing, and petition for leave to intervene.

SUMMARY: The U.S. Nuclear Regulatory Commission (NRC) received and is considering an application (XW018/02) from EnergySolutions Services, Inc. (ESSI) to amend and renew an existing export license authorizing the export of radioactive waste to Germany. The NRC is providing notice of the opportunity to submit written comments, request a hearing, or a petition for leave to intervene on ESSI's application.

DATES: Submit comments by October 16, 2020. A request for a hearing or a petition for leave to intervene must be filed by October 16, 2020.

ADDRESSES: You may submit comments by any of the following methods:

• Federal Rulemaking Website: Go to https://www.regulations.gov and search for Docket ID NRC-2020-0118. Address questions about Docket IDs in Regulations.gov to Jennifer Borges; telephone: 301-287-9127; email: Jennifer.Borges@nrc.gov. For technical questions contact the individual listed in the FOR FURTHER INFORMATION CONTACT section of this document.

• Email comments to: Hearing.Docket@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Stephen C. Baker, Office of International Programs, U.S. Nuclear Regulatory Commission, Washington, DC 20555-0001, telephone: 301-287-9059, email: Stephen.Baker@nrc.gov.

SUPPLEMENTARY INFORMATION:

I. Obtaining Information and Submitting Comments

A. Obtaining Information

Please refer to NRC-2020-0118 or Docket No. 11005897 when contacting the NRC about the availability of information for this action. You may obtain publicly-available information related to this action by the following methods:

• Federal Rulemaking Website: Go to https://www.regulations.gov and search for Docket ID NRC-2020-0118.

• NRC's Public Website: Go to https://www.nrc.gov and search for XW018/02, Docket No. 11005897, Docket ID NRC-2020-0118, or ADAMS Accession No. ML20211L811.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The export license amendment application from ESSI is available in ADAMS under Accession No. ML20211L811.

B. Submitting Comments

Please include NRC-2020-0118 or Docket No. 11005897 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

In accordance with paragraph 110.70(b) of title 10 of the Code of Federal Regulations (10 CFR), the NRC is noticing the receipt of an export license amendment application submitted by ESSI on July 28, 2020, to amend and renew an existing export license authorizing the export of German-origin radioactive waste from ESSI processing facilities in the State of Tennessee to Germany. The existing export license (XW018/01), which expires on December 31, 2021, authorizes the export of up to 1,000 tons of low-level radioactive waste consisting of hearth ash from the incineration of dry active material previously imported from Germany, including personal protective equipment, laboratory wastes, contaminated filters, insulating materials, plastic shielding, hoses and tubing, and empty contaminated bulk storage and waste tanks contaminated with byproduct and special nuclear material in amounts not to exceed the recipient's domestic possession license. The application requests: (1) Renewal of the cumulative radioactivity limits for XW018 of the total quantities of radioactive material/waste of radioactive material/waste exported to Germany; and (2) a new expiration date of December 31, 2026. The NRC is noticing the request to amend the license to export radioactive waste; open the opportunity for public comment; and open the opportunity to file a request for a hearing or petition for leave to intervene for a period of 30 days after publication of this notice in the Federal Register. Any request for hearing or petition for leave to intervene shall be served by the requestor or petitioner in accordance with 10 CFR 110.89. Hearing requests and intervention petitions must include the information specified in 10 CFR 110.82(b).

A request for a hearing or petition for leave to intervene may be filed with the NRC electronically in accordance with NRC's E-Filing rule promulgated in August 2007 (72 FR 49139; August 28, 2007, as amended at 77 FR 46562, August 3, 2012). Information about filing electronically is available on the NRC's public website at https://www.nrc.gov/site-help/e-submittals.html. To ensure timely electronic filing, at least 10 days prior to the filing deadline, the petitioner/requestor should contact the Office of the Secretary by email at Hearing.Docket@nrc.gov, or by calling 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

The information concerning this application for an export license amendment follows.

NRC Export License Amendment/Renewal Application
Application Information:
Name of Applicant | Energy Solutions Services, Inc.
Date of Application | July 14, 2020.
Date Received | July 28, 2020.
Application No. | XW018/02.
Docket No. | 11005897.
ADAMS Accession No. | ML20211L811.
Description of Material:
Material Type | Radioactive material consisting of hearth ash from the incineration dry active material. Exported material may also include non-incinerable or non-conforming material identified during inspection prior to incineration.
Total Quantity ¹ | Authorization to export a total maximum quantity of 206.164 TBq, and 350 grams of SNM based on the maximum activity authorized for possession at Energy Solutions Canada, Inc. ES Walker Operations as follows: H-3: 18.5 TBq, C-14: 18.5 Tbq, Ra-226: 0.74 TBq, Fe-55: 55.5 TBq, Th-232: 0.74 TBq, Po-210: 0.37 TBq, Uranium (natural or depleted): 7.4 TBq, Uranium (not U-233, U-235 or U-238): 0.074 TBq Atomic number 3 to 83 (excluding C-15 or Fe-55): 111 TBq, Atomic number 84 to 91 (total): 0.185, Transuranics (TRU): 0.185 TBq, Am-241: 0.37 TBq, and SNM, 235U equivalent: 350 grams.²
End Use | Return of non-conforming waste and/or waste resulting from processing materials for storage and disposal in Germany. The amendment requests: (1) renewing the radioactive limits for XW018 of the total quantities of radioactive material/waste and weights exported to Germany; (2) revising the route of shipments; (3) extending the expiration date of the license from December31, 2021 until December 31, 2026.
Country of Destination | Germany.
¹ The permit activity limits are the cumulative total maximums over the term of the permit.
² Uranium 235 gram equivalent by weight of 350 grams (ESSI will not import enrichment level that exceed 20% by weight U-235)

Dated: September 11, 2020.
For the Nuclear Regulatory Commission.
David L. Skeen,
Deputy Director, Office of International Programs.

[FR Doc. 2020-20418 Filed 9-15-20; 8:45 am]

BILLING CODE 7590-01-P